DEPARTMENT OF THE INTERIOR

National Park Service

[NPS-WASO-NAGPRA-NPS0039772; PPWOCRADN0-PCU00RP14.R50000]

Notice of Inventory Completion: Oregon Historical Society, Portland, OR

AGENCY: National Park Service, Interior.

ACTION: Notice.

SUMMARY: In accordance with the Native American Graves Protection and Repatriation Act (NAGPRA), the Oregon Historical Society (OHS) has completed an inventory of human remains and determined that there is a cultural affiliation between the human remains and Indian Tribes or Native Hawaiian organizations in this notice. The human remains were removed during an excavation immediately west of the Willamette Hotel in Salem, Oregon.

DATES: Repatriation of the human remains in this notice may occur on or after April 28, 2025.

ADDRESSES: Nicole Yasuhara, Oregon Historical Society, 1200 SW Park Avenue, Portland, OR 97205, telephone (503) 306-5238, email nagpra@ohs.org.

SUPPLEMENTARY INFORMATION: This notice is published as part of the National Park Service's administrative responsibilities under NAGPRA. The determinations in this notice are the sole responsibility of the OHS, and additional information on the determinations in this notice, including the results of consultation, can be found in its inventory or related records. The National Park Service is not responsible for the determinations in this notice.

Abstract of Information Available

Human remains representing, at minimum, one individual has been identified. No associated funerary objects are present. On an unknown date, human remains representing one individual were removed during an excavation immediately west of the Willamette Hotel in Salem, Oregon, possibly by George Himes, the first curator of the Oregon Historical Society. On January 20, 1899, the individual was documented in the accession records of the Oregon Historical Society. The ancestor exhibits “fronto-occipital deformation” (frontal sloping and flattening of the occipital consistent with intentional cranial modification). The OHS has no knowledge or record of the presence of any potentially hazardous substances used to treat the human remains.

Cultural Affiliation

Based on the information available and the results of consultation, cultural affiliation is clearly identified by the information available about the human remains described in this notice.

Determinations

The Oregon Historical Society has determined that:

• The human remains described in this notice represent the physical remains of one individual of Native American ancestry.

• There is a connection between the human remains described in this notice and the Confederated Tribes of Siletz Indians of Oregon; Confederated Tribes of the Grand Ronde Community of Oregon; and the Confederated Tribes of the Warm Springs Reservation of Oregon.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 28, 2025. If competing requests for repatriation are received, the OHS must determine the most appropriate requestor prior to repatriation. Requests for joint repatriation of the human remains are considered a single request and not competing requests. The OHS is responsible for sending a copy of this notice to the Indian Tribes and Native Hawaiian organizations identified in this notice.

Authority: Native American Graves Protection and Repatriation Act, 25 U.S.C. 3003, and the implementing regulations, 43 CFR 10.10.

Dated: March 17, 2025.
Melanie O'Brien,
Manager, National NAGPRA Program.

[FR Doc. 2025-05225 Filed 3-26-25; 8:45 am]

BILLING CODE 4312-52-P